DEPARTMENT OF TRANSPORTATION

Federal Aviation Administration

RTCA Program Management Committee

AGENCY: Federal Aviation Administration (FAA), U.S. Department of Transportation (DOT).

ACTION: Notice of RTCA Program Management Committee meeting.

SUMMARY: The FAA is issuing this notice to advise the public of a meeting of RTCA Program Management Committee

DATES: The meeting will be held December 13, 2011, from 8:30 a.m.-1:30 p.m.

ADDRESSES: The meeting will be held at RTCA, Inc., 1150 18th Street NW., Suite 910, Washington, DC 20036

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a Program Management Committee meeting. The agenda will include the following:

December 13th, 2011

• Welcome and Introductions

• Review/Approve Meeting Summaries

• September 28, 2011, RTCA Paper No. 208-11/PMC-926

• Publication Consideration/Approval

• Final Draft, Corrigendum 1, DO-260B, Minimum Operational Performance Standards for 1090 MHz Extended Squitter Automatic Dependent Surveillance—Broadcast (ADS-B) and Traffic Information Services—Broadcast (TIS-B), RTCA Paper No. 209-11/PMC-927, prepared by SC-186

• Final Draft, DO-260B with Corrigendum 1, Minimum Operational Performance Standards for 1090 MHz Extended Squitter Automatic Dependent Surveillance—Broadcast (ADS-B) and Traffic Information Services—Broadcast (TIS-B), RTCA Paper No. 211-11/PMC-929, prepared by SC-186

• Final Draft, Corrigendum 1, DO-282B, Minimum Operational Performance Standards for the Universal Access Transceiver (UAT) Automatic Dependent Surveillance—Broadcast (ADS-B), RTCA Paper No. 210-11/PMC-928, prepared by SC-186

• Final Draft, DO-282B with Corrigendum 1, Minimum Operational Performance Standards for the Universal Access Transceiver (UAT) Automatic Dependent Surveillance—Broadcast (ADS-B), RTCA Paper No. 212-11/PMC-930, prepared by SC-186

• Final Draft, Revised DO-317, Minimum Operational Performance Standards (MOPS) for Aircraft Surveillance Applications (ASA) System, RTCA Paper No. 218-11/PMC-931, prepared by SC-186

• Final Draft, Revised Supplement to DO-317, Minimum Operational Performance Standards (MOPS) for Aircraft Surveillance Applications (ASA) System, an “electronic only” zip archive, no RTCA Paper No. assigned, prepared by SC-186

• Final Draft, Revised DO-224B, Signal-in-Space Minimum Aviation System Performance Standards (MASPS) for Advanced VHF Digital Data Communications Including Compatibility with Digital Voice Techniques, RTCA Paper No. 219-11/PMC-932, prepared by SC-214

• Final Draft, Revised DO-248B, Supporting Information for DO-178[C] and DO-278[A], RTCA Paper No. 223-11/PMC-933, prepared by SC-205

• Final Draft, New Document, Model-Based Development and Verification Supplement to DO-178[C] and DO-278[A], RTCA Paper No. 224-11/PMC-934, prepared by SC-205

• Final Draft, New Document, Object-Oriented Technology and Related Techniques Supplement to DO-178[C] and DO-278[A], RTCA Paper No. 225-11/PMC-935, prepared by SC-205

• Integration and Coordination Committee (ICC)—Report

• MASPS, SPR Guidance—Update

• Action Item Review

• SC-222—Inmarsat AMS(R)S—Discussion—Review/Approve Revised Terms of Reference

• PMC Ad Hoc—Special Committee Guidance Document—Status—Discussion

• Discussion

• Standards of Navigation Performance—Discussion—Request for New Special Committee to Revise DO-236B—Minimum Aviation System Performance Standards: Required Navigation Performance (RNP) for Area Navigation

• SC-147—Traffic Alert and Collision Avoidance System—Discussion—Requirements Working Group Report and proposed Terms of Reference

• SC-224—Airport Security Access Control Systems—Discussion—Recommendations for Future Activity and proposed Terms of Reference

• NAC Update

• FAA Actions Taken on Previously Published Documents

• Special Committees—Chairmen's Reports

• Other Business

• Schedule for Committee Deliverables and Next Meeting Dates

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on Nov 21, 2011.
Robert L. Bostiga,
Manager, Business Operations Group, Federal Aviation Administration.

[FR Doc. 2011-30892 Filed 11-30-11; 8:45 am]

BILLING CODE 4910-13-P